DEPARTMENT OF AGRICULTURE

Cooperative State Research, Education, and Extension Service

1890 Institution Teaching and Research Capacity Building Grants Program for Fiscal Year 2001; Request for Proposals and Request for Input

AGENCY: Cooperative State Research, Education, and Extension Service, USDA.

ACTION: Notice of request for proposals (RFP) and request for input.

SUMMARY: The Cooperative State Research, Education, and Extension Service (CSREES) is announcing the 1890 Institution Teaching and Research Capacity Building Grants Program for Fiscal Year (FY) 2001. Proposals are hereby requested from eligible institutions as identified herein for competitive consideration of capacity building grant awards.

CSREES also is requesting comments regarding this RFP from any interested party. These comments will be considered in the development of the next RFP for this program. Such comments will be used in meeting the requirements of section 103(c)(2) of the Agricultural Research, Extension, and Education Reform Act of 1998 (AREERA).

DATES: Proposals must be received on or before March 15, 2001. Proposals received after the closing date will not be considered for funding.

Comments are requested within six months from the issuance of this RFP. Comments received after that date will be considered to the extent practicable.

ADDRESSES: Hand-delivered proposals (brought in person by the applicant or through a courier service) must be received on or before March 15, 2001, at the following address: 1890 Institution Capacity Building Grants Program; c/o Proposal Services Unit; Office of Extramural Programs; Cooperative State Research, Education, and Extension Service; U.S. Department of Agriculture; Room 1307, Waterfront Centre; 800 9th Street, SW.; Washington, DC 20024. The telephone number is (202) 401-5048. Proposals transmitted via a facsimile (fax) machine will not be accepted.

Proposals submitted through the mail must be received on or before March 15, 2001. Proposals submitted by mail should be sent to the following address: 1890 Institution Capacity Building Grants Program; c/o Proposal Services Unit; Office of Extramural Programs; Cooperative State Research, Education, and Extension Service; U.S. Department of Agriculture; STOP 2245; 1400 Independence Avenue, SW.; Washington, DC 20250-2245. Form CSREES-711, “Intent to Submit a Proposal,” is not requested nor required for the 1890 Institution Capacity Building Grants Program.

Written user comments should be submitted by mail to: Policy and Program Liaison Staff; Office of Extramural Programs; USDA-CSREES; STOP 2299; 1400 Independence Avenue, S.W. Washington, D.C. 20250-2299; or via e-mail to: RFP-OEP@reeusda.gov. (This e-mail address is intended only for receiving stakeholder comments regarding this RFP, and not for requesting information or forms.)

FOR FURTHER INFORMATION CONTACT: Richard M. Hood, Higher Education Programs; Cooperative State Research, Education, and Extension Service, U.S. Department of Agriculture, STOP 2251, 1400 Independence Avenue, SW.; Washington, DC 20250-2251; Telephone: (202) 720-2186; E-mail: rhood@reeusda.gov.

Stakeholder Input: CSREES is requesting comments regarding this RFP from any interested party. In your comments, please include the name of the program and the fiscal year of the RFP to which you are responding. These comments will be considered in the development of the next RFP for the program. Such comments will be used in meeting the requirements of section 103(c)(2) of the Agricultural Research, Extension, and Education Reform Act of 1998 (7 U.S.C. 7613(c)).

Comments should be submitted as provided for in the Addresses and Dates portions of this Notice.

SUPPLEMENTARY INFORMATION:

Table of Contents

A. Administrative Provisions

B. Authority

C. Catalog of Federal Domestic Assistance

D. Institutional Eligibility

E. Purpose of the Program

F. Available Funds and Award Limitations

G. Limitation on Indirect Costs

H. Program Areas

I. Targeted Areas

J. Degree Levels Supported

K. Proposal Submission Limitations

L. Maximum Grant Size

M. Project Duration

N. Funding Limitations per Institution

O. Funding Limitation per Individual

P. Funding Limitation per Targeted Need Area

Q. Matching Funds

R. Evaluation Criteria

S. How to Obtain Application Materials

T. What to Submit

U. Where and when to Submit

V. Acknowledgment of Proposals

A. Administrative Provisions

This program is subject to the provisions found at 7 CFR part 3406, 62 FR 39330, July 22, 1997, as provided herein. These provisions set forth procedures to be followed when submitting grant proposals, rules governing the evaluation of proposals and the awarding of grants, and regulations relating to the post-award administration of grant projects.

B. Authority

This program is authorized by section 1417(b)(4) of the National Agricultural Research, Extension, and Teaching Policy Act of 1977, as amended (NARETPA)(7 U.S.C. 3152(b)(4)). In accordance with this statutory authority, the U.S. Department of Agriculture (USDA) through the Higher Education Programs (HEP) of CSREES will award competitive grants of 18 to 36 months duration, subject to the availability of funds. These grants will be made to the historically black 1890 Land-Grant Institutions and Tuskegee University to strengthen their programs in the food and agricultural sciences in the targeted need areas as described herein.

C. Catalog of Federal Domestic Assistance

This program is listed in the Catalog of Federal Domestic Assistance under No. 10.216, 1890 Institution Capacity Building Grants Program.

D. Institutional Eligibility

Proposals may be submitted by any of the sixteen historically black 1890 Land-Grant Institutions and Tuskegee University. The 1890 Land-Grant Institutions are: Alabama A&M University; University of Arkansas-Pine Bluff; Delaware State University; Florida A&M University; Fort Valley State University; Kentucky State University; Southern University and A&M College; University of Maryland-Eastern Shore; Alcorn State University; Lincoln University (MO); North Carolina A&T State University; Langston University; South Carolina State University; Tennessee State University; Prairie View A&M University; and Virginia State University. An institution eligible to receive an award under this program includes a research foundation maintained by an 1890 land-grant institution or Tuskegee University.

E. Purpose of the Program

The purpose of this grant program is to build the institutional capacities of the eligible colleges and universities through cooperative initiatives with Federal and non-Federal entities. This program addresses the need to (1) attract more students from under represented groups into the food and agricultural sciences, (2) expand the linkages among the 1890 Institutions and with other colleges and universities, and (3) strengthen the teaching and research capacity of the 1890 Institutions to more firmly establish them as full partners in the food and agricultural science and education system. In addition, through this program, USDA will strive to increase the overall pool of qualified applicants for the Department to make significant progress toward achievement of the Department's goal of increasing participation of under represented groups in Departmental programs.

F. Available Funds and Award Limitations

For FY 2001, $9.5 million was appropriated for this program. CSREES anticipates that approximately $8.9 million will be available for project grants for this program in FY 2001. Of this amount, approximately $4.5 million will be used to support teaching projects, and approximately $4.4 million will be used to support research projects. Awards will be based upon merit review and recommendations of peer review panels; however, up to ten percent of the funds allocated for teaching and up to ten percent of the funds allocated for research may be used to support projects in either area based upon administrative decision by CSREES.

G. Limitation on Indirect Costs

For both teaching and research project grants—CSREES is prohibited from paying indirect costs exceeding 19 per centum of the total Federal funds provided under each award (7 U.S.C. 3310). An alternative method to calculate this limit is to multiply total direct costs by 23.456 percent.

H. Program Areas

In FY 2001, the Capacity Building Grants Program will support both teaching and research projects.

I. Targeted Areas

The targeted need areas to be supported by capacity building grants in FY 2001 are:

For teaching project grants—(1) Curricula Design and Materials Development, (2) Faculty Preparation and Enhancement for Teaching, (3) Instruction Delivery Systems, (4) Scientific Instrumentation for Teaching, (5) Student Experiential Learning, and (6) Student Recruitment and Retention. A description of these targeted need areas can be found in the Scope of a Teaching Proposal section at 7 CFR 3406.11.

For research project grants—(1) Studies and Experimentation in Food and Agricultural Sciences, (2) Centralized Research Support Systems, (3) Technology Delivery Systems, and (4) Other creative projects designed to provide needed enhancement of the nation's food and agricultural research system. A description of these targeted need areas can be found in the Scope of a Research Proposal section at 7 CFR 3406.16.

In FY 2001, eligible institutions may propose projects in any discipline(s) of the food and agricultural sciences as defined in section 1404(8) of NARETPA (7 U.S.C. 3103). There are no limits on the specific subject matter/emphasis areas to be supported.

J. Degree Levels Supported

In FY 2001, proposals may be directed to the undergraduate or graduate level of study leading to a baccalaureate or higher degree in the food and agricultural sciences.

K. Proposal Submission Limitations

In FY 2001, there is no limit on the number of proposals an eligible institution may submit. However, funding limitations in FY 2001 will affect the number of awards eligible institutions and individuals may receive. Therefore, institutions are encouraged to establish on-campus quality control panels to ensure that only high quality proposals having the greatest potential for improving academic and research programs are submitted for consideration. Eligible institutions may submit grant applications for either category of grants (teaching or research); however, each application must be limited to either a teaching project grant proposal or a research project grant proposal.

L. Maximum Grant Size

In FY 2001, the following limitations apply: A teaching proposal may request a grant for up to $200,000. A research proposal may request a grant for up to $300,000.

Note: These maximums are for the total duration of the project, not per year.

M. Project Duration

A regular, complementary, or joint project proposal may request funding for a period of 18 to 36 months duration.

N. Funding Limitations per Institution

In FY 2001, the following two limitations will apply to the institutional maximum: (1) No institution may receive more than four grants, and (2) no institution may receive more than 10 percent (approximately $890,000) of the total funds available for grant awards.

For a Joint Project Proposal (submitted by an eligible institution and involving two or more other colleges or universities assuming major roles in the conduct of the project), only that portion of the award to be retained by the grantee will be counted against the grantee's institutional maximum. Those funds to be transferred to the other colleges and universities participating in the joint project will not be applied toward the maximum funds allowed the grantee institution. However, if any of the other colleges and universities participating in the joint project are 1890 Institutions or Tuskegee University, the amount transferred from the grantee institution to such institutions will be counted toward their institutional maximums. For Complementary Project Proposals, only those funds to be retained by the grantee institution will be counted against the grantee's institutional maximum.

O. Funding Limitation per Individual

In FY 2001, the maximum number of new awards listing the same individual as Project Director or Principal Investigator is two grants. This restriction does not apply to joint projects.

P. Funding Limitation per Targeted Need Area

In FY 2001, the maximum number of new awards listing the same individual as Project Director or Principal Investigator in any one targeted need area that focuses on a single subject matter area or discipline is one grant. This restriction does not apply to proposals that address multiple targeted need areas and/or multiple subject matter areas.

Q. Matching Funds

The Department strongly encourages non-Federal matching support for the program. For FY 2001, the following incentive is offered to applicants for committing their own institutional resources or securing third-party contributions in support of capacity building projects:

Tie Breaker—The amount of institutional and third-party cash and non-cash matching support for each proposed project, will be used as the primary criterion to break any ties (when proposals are equally rated in merit) resulting from the proposal review process conducted by the peer review panels. A grant awarded on this basis will contain language requiring such matching commitments as a condition of the grant.

Please Note: Proposals must include written verification from the donor(s) of any actual commitments of matching support (including both cash and non-cash contributions) derived from the university community, business and industry, professional societies, the States, or other non-Federal sources.

The cash contributions towards matching from the institution should be identified in the column “Applicant Contributions to Matching Funds” of the Higher Education Budget, Form CSREES-713. The cash contributions of the institution and third parties as well as non-cash contributions should be identified on Line N., as appropriate, of Form CSREES-713.

R. Evaluation Criteria

Section 223(2) of AREERA, amended section 1417 of NARETPA to require that certain priorities be given in awarding grants for teaching enhancement projects under section 1417(b) of NARETPA. Since this program is authorized under section 1417(b), CSREES considers all applications received in response to this solicitation as teaching enhancement project applications. To implement the AREERA priorities for proposals submitted for the FY 2001 competition, the evaluation criteria used to evaluate proposals, as provided in the administrative provisions for this program (7 CFR 3406.15), have been modified to include new criteria or extra points for proposals demonstrating enhanced coordination among eligible institutions and focusing on innovative, multidisciplinary education programs, material, or curricula. The following evaluation criteria and weights will be used to evaluate proposals submitted for funding to the FY 2001 competition:

Evaluation Criteria for Teaching Proposals (Weight)

(a) Potential for Advancing the Quality of Education (50 Points)

This criterion is used to assess the likelihood that the project will have a substantial impact upon and advance the quality of food and agricultural sciences higher education by strengthening institutional capacities through promoting education reform to meet clearly delineated needs.

(1) Impact. Does the project address a targeted need area(s)? Is the problem or opportunity clearly documented? Does the project address a significant State, regional, multistate, national, or international problem or opportunity? Will the benefits to be derived from the project transcend the applicant institution and/or the grant period? Is it probable that other institutions will adapt this project for their own use? Can the project serve as a model for others?

(2) Innovative and multidisciplinary focus. Does the project focus on innovative, multidisciplinary education programs, material, or curricula? Is the project based on a non-traditional approach toward solving a higher education problem in the food and agricultural sciences? Is the project relevant to multiple fields in the food and agricultural sciences? Will the project expand partnership ventures among disciplines at a university?

(3) Products and results. Are the expected products and results of the project clearly defined and likely to be of high quality? Will project results be of an unusual or unique nature? Will the project contribute to a better understanding of or an improvement in the quality or diversity of the Nation's food and agricultural scientific and professional expertise base?

(4) Continuation plans. Are there plans for continuation or expansion of the project beyond USDA support with the use of institutional funds? Are there indications of external, non-Federal support? Are there realistic plans for making the project self-supporting?

(b) Overall Approach and Cooperative Linkages (40 Points)

This criterion relates to the soundness of the proposed approach and the quality of the partnerships likely to evolve as a result of the project.

(1) Proposed approach. Do the objectives and plan of operation appear to be sound and appropriate relative to the targeted need area(s) and the impact anticipated? Are the procedures managerially, educationally, and scientifically sound? Is the overall plan integrated with or does it expand upon other major efforts to improve the quality of food and agricultural sciences higher education? Does the timetable appear to be readily achievable?

(2) Evaluation. Are the evaluation plans adequate and reasonable? Do they allow for continuous or frequent feedback during the life of the project? Are the individuals involved in project evaluation skilled in evaluation strategies and procedures? Can they provide an objective evaluation? Do evaluation plans facilitate the measurement of project progress and outcomes?

(3) Dissemination. Does the proposed project include clearly outlined and realistic mechanisms that will lead to widespread dissemination of project results, including national electronic communication systems, publications, presentations at professional conferences, or use by faculty development or research/teaching skills workshops?

(4) Collaborative efforts. Does the project have significant potential for advancing cooperative ventures between the applicant institution and a USDA agency? Does the project work plan include an effective role for the cooperating USDA agency(s)?

(5) Coordination and partnerships. Does the project demonstrate enhanced coordination between the applicant institution and other colleges and universities with food and agricultural science programs eligible to receive grants under this program? Will the project lead to long-term relationships or cooperative partnerships, including those with the private sector, that are likely to enhance program quality or supplement resources available to food and agricultural sciences higher education?

(c) Institutional Capacity Building (30 Points)

This criterion relates to the degree to which the project will strengthen the teaching capacity of the applicant institution. In the case of a joint project proposal, it relates to the degree to which the project will strengthen the teaching capacity of the applicant institution and that of any other institution assuming a major role in the conduct of the project.

(1) Institutional enhancement. Will the project help the institution to expand the current faculty's expertise base; attract, hire, and retain outstanding teaching faculty; advance and strengthen the scholarly quality of the institution's academic programs; enrich the racial, ethnic, or gender diversity of the faculty and student body; recruit students with higher grade point averages, higher standardized test scores, and those who are more committed to graduation; become a center of excellence in a particular field of education and bring it greater academic recognition; attract outside resources for academic programs; maintain or acquire state-of-the-art scientific instrumentation or library collections for teaching; or provide more meaningful student experiential learning opportunities?

(2) Institutional commitment. Is there evidence to substantiate that the institution attributes a high-priority to the project, that the project is linked to the achievement of the institution's long-term goals, that it will help satisfy the institution's high-priority objectives, or that the project is supported by the institution's strategic plans? Will the project have reasonable access to needed resources such as instructional instrumentation, facilities, computer services, library and other instruction support resources?

(d) Personnel Resources (10 Points)

This criterion relates to the number and qualifications of the key persons who will carry out the project. Are designated project personnel qualified to carry out a successful project? Are there sufficient numbers of personnel associated with the project to achieve the stated objectives and the anticipated outcomes?

(e) Budget and Cost-Effectiveness (15 Points)

This criterion relates to the extent to which the total budget adequately supports the project and is cost-effective.

(1) Budget. Is the budget request justifiable? Are costs reasonable and necessary? Will the total budget be adequate to carry out project activities? Are the source(s) and amount(s) of non-Federal matching support clearly identified and appropriately documented? For a joint project proposal, is the shared budget explained clearly and in sufficient detail?

(2) Cost-effectiveness. Is the proposed project cost-effective? Does it demonstrate a creative use of limited resources, maximize educational value per dollar of USDA support, achieve economies of scale, leverage additional funds or have the potential to do so, focus expertise and activity on a targeted need area, or promote coalition building for current or future ventures?

(f) Overall Quality of Proposal (5 Points)

This criterion relates to the degree to which the proposal complies with the application guidelines and is of high quality. Is the proposal enhanced by its adherence to instructions (table of contents, organization, pagination, margin and font size, the 20-page limitation, appendices, etc.); accuracy of forms; clarity of budget narrative; well prepared vitae for all key personnel associated with the project; and presentation (are ideas effectively presented, clearly articulated, and thoroughly explained, etc.)?

Evaluation Criteria for Research Proposals (Weight)

(a) Significance of the Problem (50 Points)

This criterion is used to assess the likelihood that the project will advance or have a substantial impact upon the body of knowledge constituting the natural and social sciences undergirding the agricultural, natural resources, and food systems.

(1) Impact. Is the problem or opportunity to be addressed by the proposed project clearly identified, outlined, and delineated? Are research questions or hypotheses precisely stated? Is the project likely to further advance food and agricultural research and knowledge? Does the project have potential for augmenting the food and agricultural scientific knowledge base? Does the project address a significant State, regional, multistate, national, or international problem(s)? Will the benefits to be derived from the project transcend the applicant institution and/or the grant period?

(2) Innovative and multidisciplinary focus. Is the project based on a non-traditional approach? Does the project reflect creative thinking? To what degree does the venture reflect a unique approach that is new to the applicant institution or new to the entire field of study? Does the project focus on innovative, multidisciplinary education programs, material, or curricula? Is the project relevant to multiple fields in the food and agricultural sciences? Will the project expand partnership ventures among disciplines at a university?

(3) Products and results. Are the expected products and results of the project clearly outlined and likely to be of high quality? Will project results be of an unusual or unique nature? Will the project contribute to a better understanding of or an improvement in the quality or diversity of the Nation's food and agricultural scientific and professional expertise base?

(4) Continuation plans. Are there plans for continuation or expansion of the project beyond USDA support? Are there plans for continuing this line of research or research support activity with the use of institutional funds after the end of the grant? Are there indications of external, non-Federal support? Are there realistic plans for making the project self-supporting? What is the potential for royalty or patent income, technology transfer or university-business enterprises? What are the probabilities of the proposed activity or line of inquiry being pursued by researchers at other institutions?

(b) Overall Approach and Cooperative Linkages (40 Points)

This criterion relates to the soundness of the proposed approach and the quality of the partnerships likely to evolve as a result of the project.

(1) Proposed approach. Do the objectives and plan of operation appear to be sound and appropriate relative to the proposed initiative(s) and the impact anticipated? Is the proposed sequence of work appropriate? Does the proposed approach reflect sound knowledge of current theory and practice and awareness of previous or ongoing related research? If the proposed project is a continuation of a current line of study or currently funded project, does the proposal include sufficient preliminary data from the previous research or research support activity? Does the proposed project flow logically from the findings of the previous stage of study? Are the procedures scientifically and managerially sound? Are potential pitfalls and limitations clearly identified? Are contingency plans delineated? Does the timetable appear to be readily achievable?

(2) Evaluation. Are the evaluation plans adequate and reasonable? Do they allow for continuous or frequent feedback during the life of the project? Are the individuals involved in project evaluation skilled in evaluation strategies and procedures? Can they provide an objective evaluation? Do evaluation plans facilitate the measurement of project progress and outcomes?

(3) Dissemination. Does the proposed project include clearly outlined and realistic mechanisms that will lead to widespread dissemination of project results, including national electronic communication systems, publications and presentations at professional society meetings?

(4) Collaborative efforts. Does the project have significant potential for advancing cooperative ventures between the applicant institution and a USDA agency? Does the project work plan include an effective role for the cooperating USDA agency(s)?

(5) Coordination and partnerships. Does the project demonstrate enhanced coordination between the applicant institution and other colleges and universities with food and agricultural science programs eligible to receive grants under this program? Will the project lead to long-term relationships or cooperative partnerships, including those with the private sector, that are likely to enhance research quality or supplement available resources?

(c) Institutional Capacity Building (30 Points)

This criterion relates to the degree to which the project will strengthen the research capacity of the applicant institution. In the case of a joint project proposal, it relates to the degree to which the project will strengthen the research capacity of the applicant institution and that of any other institution assuming a major role in the conduct of the project.

(1) Institutional enhancement. Will the project help the institution to advance the expertise of current faculty in the natural or social sciences; provide a better research environment, state-of-the-art equipment, or supplies; enhance library collections related to the area of research; or enable the institution to provide efficacious organizational structures and reward systems to attract, hire and retain first-rate research faculty and students—particularly those from under-represented groups?

(2) Institutional commitment. Is there evidence to substantiate that the institution attributes a high-priority to the project, that the project is linked to the achievement of the institution's long-term goals, that it will help satisfy the institution's high-priority objectives, or that the project is supported by the institution's strategic plans? Will the project have reasonable access to needed resources such as scientific instrumentation, facilities, computer services, library and other research support resources?

(d) Personnel Resources (10 Points)

This criterion relates to the number and qualifications of the key persons who will carry out the project. Are designated project personnel qualified to carry out a successful project? Are there sufficient numbers of personnel associated with the project to achieve the stated objectives and the anticipated outcomes? Will the project help develop the expertise of young scientists at the doctoral or post-doctorate level?

(e) Budget and Cost-Effectiveness (15 Points)

This criterion relates to the extent to which the total budget adequately supports the project and is cost-effective.

(1) Budget. Is the budget request justifiable? Are costs reasonable and necessary? Will the total budget be adequate to carry out project activities? Are the source(s) and amount(s) of non-Federal matching support clearly identified and appropriately documented? For a joint project proposal, is the shared budget explained clearly and in sufficient detail?

(2) Cost-effectiveness. Is the proposed project cost-effective?

Does it demonstrate a creative use of limited resources, maximize research value per dollar of USDA support, achieve economies of scale, leverage additional funds or have the potential to do so, focus expertise and activity on a high-priority research initiative(s), or promote coalition building for current or future ventures?

(f) Overall Quality of Proposal (5 Points)

This criterion relates to the degree to which the proposal complies with the application guidelines and is of high quality. Is the proposal enhanced by its adherence to instructions (table of contents, organization, pagination, margin and font size, the 20-page limitation, appendices, etc.); accuracy of forms; clarity of budget narrative; well prepared vitae for all key personnel associated with the project; and presentation (are ideas effectively presented, clearly articulated, thoroughly explained, etc.)?

S. How To Obtain Application Materials

Copies of this solicitation and an Application Kit containing program application materials are available at the 1890 Institution Teaching and Research Capacity Building Grants Program website (http://faeis.tamu.edu/hep/menus/msgb~~1.htm). These materials include the administrative provisions, forms, instructions, and other relevant information needed to prepare and submit grant applications. If you do not have access to the web or have trouble downloading material, you may contact the Proposal Services Unit at (202) 401-5048. When contacting them please indicate that you are requesting forms for the FY 2001 1890 Institution Capacity Building Grants Program. Hard copies of all application materials may also be requested by writing to: Proposal Services Unit; Office of Extramural Programs; Cooperative State Research, Education, and Extension Service; U.S. Department of Agriculture; STOP 2245; 1400 Independence Avenue, SW; Washington, DC 20250-2245.

These materials may also be requested via Internet by sending an e-mail message with your name, mailing address (not e-mail) and telephone number to psb@reeusda.gov that states that you wish to receive a copy of the application materials for the FY 2001 1890 Institution Capacity Building Grants Program. The materials will then be mailed to you (not e-mailed) as quickly as possible.

T. What To Submit

An original and seven (7) copies of a proposal must be submitted. Proposals should contain all requested information when submitted. Each proposal should be typed on 8½″ x 11″ white paper, double-spaced, on one side of the page only, and using no type smaller than 12 point font size and one-inch margins. Do not use reduced type or increase the density of the lines. Applicants are cautioned to comply with the 20-page limitation for the Narrative section of a teaching or research proposal. Reviewers will not be required to read beyond the 20-page limit for the Proposal Narrative section in evaluating a proposal. All copies of the proposal must be submitted in one package. Each copy of the proposal must be stapled securely in the upper left-hand corner (DO NOT BIND).

U. Where and When To Submit

Hand-delivered proposals (brought in person by the applicant or through a courier service) must be received on or before March 15, 2001, at the following address: 1890 Institution Capacity Building Grants Program, c/o Proposal Services Unit, Office of Extramural Programs, Cooperative State Research, Education, and Extension Service, U.S. Department of Agriculture, Room 1307, Waterfront Centre 800 9th Street, SW., Washington, DC 20024, Telephone: (202) 401-5048.

Proposals transmitted via a facsimile (fax) machine will not be accepted.

Proposals submitted through the mail must be received on or before March 15, 2001. Proposals submitted through the mail should be sent to the following address: 1890 Institution Capacity Building Grants Program, c/o Proposal Services Unit; Office of Extramural Programs, Cooperative State Research, Education, and Extension Service, U.S. Department of Agriculture, STOP 2245, 1400 Independence Avenue, SW., Washington, DC 20250-2245, Telephone: (202) 401-5048.

For FY 2001, Form CSREES-711, “Intent to Submit a Proposal,” is not requested nor required for the 1890 Institution Capacity Building Grants Program.

V. Acknowledgment of Proposals

The receipt of all proposals will be acknowledged via e-mail. Therefore it is important to include your e-mail address on Form CSREES-701 when applicable. This acknowledgment will contain a proposal identification number. Once your proposal has been assigned a proposal number, please cite that number in future correspondence.

Done at Washington, D.C., this 16th day of January 2001.
Colien Hefferan,
Administrator, Cooperative State Research, Education, and Extension Service.

[FR Doc. 01-1720 Filed 1-22-01; 8:45 am]

BILLING CODE 3410-22-P